DEPARTMENT OF ENERGY

Federal Energy Regulatory Commission

Combined Notice of Filings

Take notice that the Commission has received the following Natural Gas Pipeline Rate and Refund Report filings:

Docket Numbers: RP20-237-000.

Applicants: Algonquin Gas Transmission, LLC.

Description: § 4(d) Rate Filing: Negotiated Rates—Bay releases to UGI eff 12-1-19 to be effective 12/1/2019.

Filed Date: 11/21/19.

Accession Number: 20191121-5124.

Comments Due: 5 p.m. ET 12/3/19.

Docket Numbers: RP20-238-000.

Applicants: East Tennessee Natural Gas, LLC.

Description: § 4(d) Rate Filing: ETNG Oglethorpe release to Ratio Energy eff 11-21-19 to be effective 11/21/2019.

Filed Date: 11/21/19.

Accession Number: 20191121-5128.

Comments Due: 5 p.m. ET 12/3/19.

Docket Numbers: RP20-239-000.

Applicants: Tennessee Gas Pipeline Company, L.L.C.

Description: Compliance filing Cashout Report 2018-2019 to be effective N/A.

Filed Date: 11/21/19.

Accession Number: 20191121-5129.

Comments Due: 5 p.m. ET 12/3/19.

Docket Numbers: RP20-240-000.

Applicants: Peninsula Energy Services Company, Inc., Aspire Energy of Ohio, LLC.

Description: Joint Petition for Temporary Waiver of Commission Capacity Release Regulations and Policies, et al. of Peninsula Energy Services Company, Inc., et al. under RP20-240.

Filed Date: 11/21/19.

Accession Number: 20191121-5142.

Comments Due: 5 p.m. ET 11/29/19.

Docket Numbers: RP20-216-001.

Applicants: Trailblazer Pipeline Company LLC.

Description: Tariff Amendment: Neg Rates 2019-11-22 RP20-216 amendment to be effective 11/1/2019.

Filed Date: 11/22/19.

Accession Number: 20191122-5169.

Comments Due: 5 p.m. ET 12/4/19.

Docket Numbers: RP20-241-000.

Applicants: El Paso Natural Gas Company, L.L.C.

Description: § 4(d) Rate Filing: Article 11.2(a) Inflation Adjustment Filing 2020 to be effective 1/1/2020.

Filed Date: 11/22/19.

Accession Number: 20191122-5002.

Comments Due: 5 p.m. ET 12/4/19.

Docket Numbers: RP20-242-000.

Applicants: Texas Eastern Transmission, LP.

Description: § 4(d) Rate Filing: Stratton Ridge Non-Conforming Filing—Toshiba 911494 to be effective 12/24/2019.

Filed Date: 11/22/19.

Accession Number: 20191122-5007.

Comments Due: 5 p.m. ET 12/4/19.

Docket Numbers: RP20-243-000.

Applicants: Texas Eastern Transmission, LP.

Description: Compliance filing Stratton Ridge (CP17-56) Negotiated Rate Compliance Filing to be effective 12/24/2019.

Filed Date: 11/22/19.

Accession Number: 20191122-5008.

Comments Due: 5 p.m. ET 12/4/19.

Docket Numbers: RP20-244-000.

Applicants: Algonquin Gas Transmission, LLC.

Description: § 4(d) Rate Filing: Negotiated Rates—Various Releasers to Agera Energy eff 12-1-2019 to be effective 12/1/2019.

Filed Date: 11/22/19.

Accession Number: 20191122-5012.

Comments Due: 5 p.m. ET 12/4/19.

Docket Numbers: RP20-245-000.

Applicants: MarkWest Pioneer, L.L.C.

Description: § 4(d) Rate Filing: Quarterly Fuel Adjustment Filing to be effective 1/1/2020.

Filed Date: 11/22/19.

Accession Number: 20191122-5022.

Comments Due: 5 p.m. ET 12/4/19.

Docket Numbers: RP20-246-000.

Applicants: Algonquin Gas Transmission, LLC.

Description: § 4(d) Rate Filing: Negotiated Rate—Boston Gas to UGI 800658 to be effective 12/1/2019.

Filed Date: 11/22/19.

Accession Number: 20191122-5030.

Comments Due: 5 p.m. ET 12/4/19.

Docket Numbers: RP20-247-000.

Applicants: Texas Eastern Transmission, LP.

Description: § 4(d) Rate Filing: Negotiated Rate—Chevron 911109 release to Eco-Energy 8960980 to be effective 12/1/2019.

Filed Date: 11/22/19.

Accession Number: 20191122-5067.

Comments Due: 5 p.m. ET 12/4/19.

Docket Numbers: RP20-248-000.

Applicants: Colorado Interstate Gas Company, L.L.C.

Description: § 4(d) Rate Filing: Quarterly L&U Update Filing to be effective 1/1/2020.

Filed Date: 11/22/19.

Accession Number: 20191122-5089.

Comments Due: 5 p.m. ET 12/4/19.

Docket Numbers: RP20-249-000.

Applicants: Young Gas Storage Company, Ltd.

Description: § 4(d) Rate Filing: Annual Fuel and L&U Update Filing to be effective 1/1/2020.

Filed Date: 11/22/19.

Accession Number: 20191122-5090.

Comments Due: 5 p.m. ET 12/4/19.

Docket Numbers: RP20-250-000.

Applicants: TransColorado Gas Transmission Company LLC.

Description: § 4(d) Rate Filing: Fuel and Lost and Unaccounted For Filing to be effective 1/1/2020.

Filed Date: 11/22/19.

Accession Number: 20191122-5096.

Comments Due: 5 p.m. ET 12/4/19.

Docket Numbers: RP20-251-000.

Applicants: Sierrita Gas Pipeline LLC.

Description: Operational Purchases and Sales Report of Sierrita Gas Pipeline LLC under RP20-251.

Filed Date: 11/22/19.

Accession Number: 20191122-5104.

Comments Due: 5 p.m. ET 12/4/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2019.
Nathaniel J. Davis, Sr.,
Deputy Secretary.

[FR Doc. 2019-26076 Filed 12-2-19; 8:45 am]

BILLING CODE 6717-01-P